FEDERAL ELECTION COMMISSION

Sunshine Act Notice

AGENCY: Federal Election Commission.

FEDERAL REGISTER CITATION OF PREVIOUS ANNOUNCEMENT: 76 FR 70132 (November 10, 2011)

DATE and TIME: Tuesday, November 15, 2011, at 10 a.m.

PLACE: 999 E Street NW., Washington, DC (Ninth Floor).

STATUS: Meeting Will Be Closed to the Public.

Changes In The Meeting: The Commission is also expected to discuss:

Investigatory records compiled for law enforcement purposes, or information which if written would be contained in such records.

Information the premature disclosure of which would be likely to have a considerable adverse effect on the implementation of a proposed Commission action.

* * * * *

PERSON TO CONTACT FOR INFORMATION: Judith Ingram, Press Officer, Telephone: (202) 694-1220.

Shawn Woodhead Werth,
Secretary and Clerk of the Commission.

[FR Doc. 2011-29781 Filed 11-14-11; 4:15 pm]

BILLING CODE 6715-01-P